DEPARTMENT OF EDUCATION

Regional Advisory Committees

AGENCY: U.S. Department of Education, Office of Elementary and Secondary Education.

ACTION: Notice of establishment of 10 Regional Advisory Committees.

SUMMARY: The U.S. Secretary of Education (Secretary) announces the establishment of ten Regional Advisory Committees (RACs). The Federal Advisory Committee Act (FACA) (Pub. L. 92-463, as amended; 5 U.S.C., Appendix) shall govern the RACs.

Purpose

The Secretary is establishing the RACS in order to collect information on the educational needs of each of the ten regions served by the Regional Educational Laboratories. The RACs will seek input regarding the need for the technical assistance activities described in section 203 of the Educational Technical Assistance Act and how those needs would be most effectively addressed. In order to achieve this purpose, the RACs will seek input from chief executive officers of States; chief State school officers; educators, including teachers and administrators; local educational agencies; librarians; businesses; State educational agencies; parents; and other customers within each region.

Not later than six months after each RAC is convened, the committee will submit a report based on this needs assessment to the Secretary. Each report will identify the educational needs of the region and how those needs would be most effectively addressed. The Secretary will establish priorities for the comprehensive centers to address, taking into account these regional assessments and other relevant regional surveys of educational needs, to the extent the Secretary deems appropriate.

FOR FURTHER INFORMATION CONTACT: U.S. Department of Education, White House Liaison Office, Washington, DC 20202, telephone: (202) 401-3677.

The official version of this document is the document published in the Federal Register. Free Internet access to the official edition of the Federal Register and the Code of Federal Regulations is available on GPO Access at: http://www.gpoaccess.gov/nara/index.html.

Dated: November 29, 2010.
Arne Duncan,
Secretary of Education.

[FR Doc. 2010-30477 Filed 12-3-10; 8:45 am]

BILLING CODE 4000-01-P